DEPARTMENT OF COMMERCE

Bureau of Industry and Security

Action Affecting Export Privileges; Winter Aircraft Products SA and Ana Belen Diaz Sanchez; Order Making Denial of Export Privileges Applicable to Related Person

In the Matter of:

Winter Aircraft Products SA

a/k/a Ruf S. Lopez SA, C/Ferrocarril 41,

1 DCHA,

28045 Madrid, Spain

Respondent

and

Ana Belen Diaz Sanchez,

(a/k/a “Ana Vazquez”),

Avda Mediterraneo No. 9, 28007 Madrid, Spain

Related Person.

Pursuant to section 766.23 of the Export Administration Regulations (“EAR” or “Regulations”), the Bureau of Industry and Security (“BIS”), U.S. Department of Commerce, through its Office of Export Enforcement (“OEE”), has requested that I make the Denial Order that was imposed against Winter Aircraft Products SA (a/k/a Ruf S. Lopez SA) (“Winter Aircraft”) on May 24, 2007 (72 FR 29965) applicable to the following entity, as a person related to Winter Aircraft:

Ana Belen Diaz Sanchez, (a/k/a “Ana Vazquez”), Avda Mediterraneo No. 9, 28007 Madrid, Spain.

Section 766.23 of the Regulations provides that “[i]n order to prevent evasion, certain types of orders under this part may be made applicable not only to the respondent, but also to other persons then or thereafter related to the respondent by ownership, control, position of responsibility, affiliation, or other connection in the conduct of trade or business. Orders that may be made applicable to related persons include those that deny or affect export privileges * * *.” 15 CFR 766.23(a).

On May 24, 2007, an Order pursuant to Part 766 of the Regulations imposing a ten-year denial of export privileges against Winter Aircraft Products SA, of Madrid Spain (a/k/a Ruf S. Lopez SA), Rufina Sanchez Lopez, Principal of Winter Aircraft, and Jose Alberto Diaz Sanchez, President of Winter Aircraft, were published in the Federal Register to conclude administrative charges pending against these parties. See 72 FR 29960, 29963, 29965 (June 6, 2005). Winter Aircraft was found to have taken actions with intent to evade the Regulations by acquiring aircraft parts, items subject to the Regulations and classified under Export Control Classification Number (“ECCN”) 9A991, from U.S. suppliers with intent to transship such items to Iran without the necessary license from the U.S. Government. The violations occurred from on or about on or about October 19, 2000, and on or about November 22, 2000.

The May 24, 2007 Order imposed against Winter Aircraft is an order that may be made applicable to related persons pursuant to section 766.23 upon evidence that indicates that the person is related to Winter Aircraft by ownership, control, position of responsibility, affiliation, or other connection in the conduct of trade or business, and that it is necessary to add this entity to the Order imposed against Winter Aircraft in order to avoid evasion of that Order.

BIS has presented evidence that Ana Belen Diaz Sanchez, Avda Mediterraneo No. 9, 28007 Madrid, Spain (a/k/a “Ana Vazquez”), is related to Winter Aircraft by ownership, control, position of responsibility, affiliation, or other connection in the conduct of trade or business, and that it is necessary to add Ana Belen Diaz Sanchez to the Order imposed against Winter Aircraft in order to avoid evasion of that Order.

BIS notified Ana Belen Diaz Sanchez of its plans to take this action through letters dated January 23, 2008, and March 5, 2008, in accordance with sections 766.5(b) and 766.23 of the Regulations. Ana Belen Diaz Sanchez never responded to BIS.

It is my belief based on all the evidence presented in this matter that Ana Belen Diaz Sanchez's relationship with Winter Aircraft meets the requirements of Section 766.23 of the Regulations. Accordingly, I find that it is necessary to make the Order imposed against Winter Aircraft applicable to Ana Belen Diaz Sanchez in order to prevent the evasion of that Order.

It Is Now Therefore Ordered,

First, that having been provided notice and opportunity for comment as provided in section 766.23 of the Regulations, Ana Belen Diaz Sanchez, Avda Mediterraneo No. 9, 28007 Madrid, Spain (a/k/a “Ana Vazquez”) (“Related Person”), has been determined to be related to Winter Aircraft, Products SA, a/k/a Ruf S. Lopez SA, C/Ferrocarril 41, 1 DCHA, 28045 Madrid, Spain (“Winter Aircraft”), by affiliation, ownership, control, or position of responsibility in the conduct of trade or related services, and it has been deemed necessary to make the Order denying the export privileges of Winter Aircraft applicable to this Related Person in order to prevent evasion of the Order.

Second, that the denial of export privileges described in the Order against Winter Aircraft, which was published in the Federal Register on May 24, 2007 at 72 FR 29965, shall be made applicable to the Related Person, as follows:

I. The Related Person, its successors or assigns, and when acting for or on behalf of the Related Person, its officers, representatives, agents, or employees (collectively, “Denied Person”) may not participate, directly or indirectly, in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

II. No person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, that in accordance with the provisions of section 766.23(c) of the Regulations, the Related Person may, at any time, make an appeal related to this Order by filing a full written statement in support of the appeal with the Office of the Administrative Law Judge, U.S. Coast Guard ALJ Docketing Center, 40 South Gay Street, Baltimore, Maryland 21202-4022.

Fourth, that this Order does not prohibit any export, reexport, or other transaction subject to the Regulations where the only items involved that are subject to the Regulations are the foreign-produced direct product of U.S.-origin technology.

Fifth, that this Order shall be published in the Federal Register and a copy provided to the Related Person.

This Order is effective upon publication in the Federal Register.

Entered this 19th day of May, 2008.
Darryl W. Jackson,
Assistant Secretary of Commerce for Export Enforcement.

[FR Doc. E8-12292 Filed 6-2-08; 8:45 am]

BILLING CODE 3510-DT-P